DEPARTMENT OF COMMERCE

National Oceanic and Atmospheric Administration

RIN 0648-XS64

North Pacific Fishery Management Council; Public Meeting

AGENCY: National Marine Fisheries Service (NMFS), National Oceanic and Atmospheric Administration (NOAA), Commerce.

ACTION: Notice of public meetings of the North Pacific Fishery Management Council Rural Community Outreach Committee.

SUMMARY: The North Pacific Fishery Management Council's Rural Community Outreach Committee will meet by teleconference, (907) 271-2896.

DATES: The teleconference will be held on November 20, 2009, from 8:30 a.m. to 12:30 p.m.

ADDRESSES: North Pacific Fishery Management Council; telephone: (907) 271-2896.

Council address: North Pacific Fishery Management Council, 605 W. 4th Ave., Suite 306, Anchorage, AK 99501-2252.

FOR FURTHER INFORMATION CONTACT: Nicole Kimball, North Pacific Fishery Management Council; telephone: (907) 271-2809.

SUPPLEMENTARY INFORMATION: The committee is scheduled to receive updates from staff on several ongoing outreach efforts stemming from committee and Council recommendations. The committee's primary task at this meeting is to provide recommendations toward developing a Bering Sea chum salmon bycatch outreach plan.

The Agenda is subject to change, and the latest version will be posted at http://www.alaskafisheries.noaa.gov/npfmc/.

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take final action to address the emergency.

Special Accommodations

The meeting is physically accessible to people with disabilities. Requests for sign language interpretation or other auxiliary aids should be directed to Gail Bendixen, (907) 271-2809, at least 5 working days prior to the meeting date.

Dated: October 26, 2009.
Tracey L. Thompson,
Acting Director, Office of Sustainable Fisheries, National Marine Fisheries Service.

[FR Doc. E9-26048 Filed 10-28-09; 8:45 am]

BILLING CODE 3510-22-S